DEPARTMENT OF ENERGY

Federal Energy Regulatory Commission

Sunshine Act Meetings

TIME AND DATE: May 19, 2022, 10:00 a.m.

PLACE: Room 2C, 888 First Street NE, Washington, DC 20426.

Open to the public via video Webcast only. Join FERC online to view this event live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1090th Meeting—Open Meeting
[May 19, 2022, 10:00 a.m.]
Item No. | Docket No. | Company
Administrative
A-1 | AD22-1-000 | Agency Administrative Matters.
A-2 | AD22-2-000 | Customer Matters, Reliability, Security and Market Operations.
A-3 | AD06-3-000 | Market Update.
Electric
E-1 | RM20-16-001 | Managing Transmission Line Ratings.
E-2 | OMITTED
E-3 | ER21-62-000 | Uniper Global Commodities North America LLC.
E-4 | ER21-65-000 | Tri-State Generation and Transmission Association, Inc.
E-5 | ER21-59-000, ER21-59-001 | Brookfield Renewable Trading and Marketing LP.
E-6 | ER21-64-000 | Macquarie Energy LLC.
E-7 | ER22-1246-000 | California Independent System Operator Corporation.
E-8 | QF21-222-002 | Board of Trustees of Michigan State University.
E-9 | ER22-476-001 | Alabama Power Company.
E-10 | EL22-44-000 | Grand River Dam Authority.
E-11 | EL22-45-000 | Lincoln Electric System.
E-12 | EL22-46-000 | Nebraska Public Power District.
E-13 | EL22-47-000 | Omaha Public Power District.
E-14 | OMITTED
E-15 | EC22-24-000 | GridLiance High Plains LLC.
E-16 | RR21-10-000 | North American Electric Reliability Corporation.
Miscellaneous
M-1 | RM22-15-000 | Certification of Uncontested Settlements by Settlement Judges.
Gas
G-1 | RM21-18-000 | Revised Filing and Reporting Requirements for Interstate Natural Gas Company Rate Schedules and Tariffs.
G-2 | OR19-14-000 | MPLX Ozark Pipe Line LLC.
G-3 | RP21-1001-006 | Texas Eastern Transmission, LP.
Hydro
H-1 | P-15246-000 | PacifiCorp.
H-2 | P-15239-000 | PacifiCorp.
H-3 | P-2188-259 | NorthWestern Corporation.
Certificates
C-1 | CP21-197-000 | Kern River Gas Transmission Company.
C-2 | CP21-78-000 | ANR Pipeline Company.
C-3 | IN19-4-001 | Rover Pipeline, LLC and Energy Transfer Partners, L.P.
C-4 | CP21-6-000 | Spire Storage West LLC.

Issued: May 12, 2022

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Debbie-Anne A. Reese,
Deputy Secretary.

[FR Doc. 2022-10681 Filed 5-13-22; 4:15 pm]

BILLING CODE 6717-01-P